DEPARTMENT OF LABOR

Employee Benefits Security Administration

[Exemption Application No. D-11672]

Withdrawal of Notice of Proposed Exemption Involving the Studley, Inc. Section 401(k) Profit Sharing Plan (the Plan) Located in New York, NY

In the Federal Register dated November 16, 2012 (77 FR 68842), the Department of Labor (the Department) published a notice of proposed exemption (the Notice) from the prohibited transaction restrictions of the Employee Retirement Income Security Act of 1974, as amended, and from certain taxes imposed by the Internal Revenue Code of 1986, as amended. The Notice concerned the proposed cash sale by the Plan of an 8.828121% partnership interest (the Interest) in the Julien J. Studley N Street Partnership, a general partnership (the JJS Partnership) to Studley, Inc. (the Employer), a party in interest with respect to the Plan.

Subsequent to the publication of the Notice in the Federal Register, the Department was informed that Melvin Lenkin, Edward J. Lenkin and the EJL Trust, who are unrelated parties with respect to the Plan, purchased the Interest from the Plan. Accordingly, the Department hereby withdraws the Notice from the Federal Register.

Signed at Washington, DC, this 31st day of October 2013.
Lyssa E. Hall,
Director, Office of Exemption Determinations, Employee Benefits Security Administration, U.S. Department of Labor.

[FR Doc. 2013-26505 Filed 11-5-13; 8:45 am]

BILLING CODE 4510-29-P